DEPARTMENT OF JUSTICE

Notice of Lodging of Consent Decree Under the Clean Air Act

Notice is hereby given that on December 3, 2007, a proposed Consent Decree in United States of America v. Essroc Cement Corporation, Civil Action No. 4:07-cv-157 was lodged with the United States District Court for the Southern District of Indiana.

The proposed Consent Decree resolves the United States' claims against Essroc Cement Corporation (“Essroc”) under section 113 of the Clean Air Act as amended, 42 U.S.C. 7413 (the “Act”), in connection with Essroc's operation of a portland cement manufacturing facility in Speed, Indiana (“Speed Facility” or “Facility”). Under the proposed Consent Decree, Essroc would be required to: (1) Pay $750,000 in civil penalties for alleged violations of the National Emissions Standard for Hazardous Air Pollutants for the Portland Cement Manufacturing Industry codified at 40 CFR part 63, subpart LLL, the Indiana State Implementation Plan adopted pursuant to section 110 of the Act, and provisions of the federally enforceable operating permit for the Speed Facility; and (2) certify test results that demonstrate that a newly installed fabric filter baghouse will consistently control emissions from the main stack at one of the Facility's kilns. Also under the proposed Consent Decree, Essroc would be required to perform two supplementary environmental projects (“SEP”) that are designed to eliminate or minimize fugitive particulate emissions from specified areas of the Facility. One SEP involves construction of an air curtain and ventilation system with dust collectors and ductwork to prevent emissions of fugitive dust from the facility's clinker storage entrance hall. The second SEP involves paving some 900 linear feet of roads at the Facility that are heavily trafficked by trucks bringing raw materials to production areas. The SEPs are valued, collectively, at $900,000.

For a period of thirty days from the date of this publication, the Department of Justice will receive comments relating to the proposed Consent Decree. Comments should be addressed to the Acting Assistant Attorney General, Environment and National Resources Division, and either e-mailed to pubcomment-ees.enrd@usdoj.gov or mailed to P.O. Box 7611, U.S. Department of Justice, Washington, DC 20044-7611, and should refer to United States v. Essroc Cement Corporation, D.J. Reference No. 90-5-2-1-2090/1.

The proposed Consent Decree may be examined at the Offices of the United States Attorney for the Southern District of Indiana at 10 West Market Street, Suite 2100, Indianapolis, IN 46204 (317-226-6333), and at the Office of the Regional Counsel, U.S. EPA Region V, 77 West Jackson Boulevard, Chicago, IL 60604 (contact Associate Regional Counsel Susan Perdomo (312-886-0557). During the public comment period, the proposed Consent Decree may also be examined on the following Department of Justice Web site: http://www.usdoj.gov/enrd/Consent Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. When requesting a copy from the Consent Decree Library, please enclose a check in the amount of $5.75 for the Consent Decree (25 cents per page reproduction cost), payable to the U.S. Treasury or, if by e-mail or fax, forward a check in that amount to the Consent Decree Library at the stated address.

Thomas A. Mariani, Jr.,
Assistant Chief, Environmental Enforcement Section, Environment and Natural Resources Division.

[FR Doc. 07-6028 Filed 12-11-07; 8:45 am]

BILLING CODE 4410-15-M